SMALL BUSINESS ADMINISTRATION

Small Business Size Standards: Waiver of the Nonmanufacturer Rule

AGENCY: U.S. Small Business Administration.

ACTION: Notice of Partial Waiver of the Nonmanufacturer Rule (NMR) for Furniture.

SUMMARY: The U.S. Small Business Administration (SBA) received a request for waiver of the NMR for Furniture for multiple NAICS codes. Based on our evaluation, SBA has determined that there are no small business manufacturers for the following products: Furniture Frames and Parts, Metal, Manufacturing; NAICS 337215; Furniture Frames, Wood, Manufacturing; NAICS 337215; Furniture Parts, Finished Metal, Manufacturing; NAICS 337215; Furniture Parts, Finished Plastics, Manufacturing; NAICS 337215; Furniture, Factory-type (e.g., cabinets, stools, tool stands, work benches), Manufacturing; NAICS 337127; Furniture, Hospital (e.g., hospital beds, operating room furniture), Manufacturing; NAICS 339111 and Furniture, Laboratory-type (e.g., benches, cabinets, stools, tables), Manufacturing, NAICS 339111. Therefore, the SBA is granting a waiver for the above items.

The SBA is denying a waiver of the NMR for the following; Furniture (except wood), office-type, padded, upholstered, or plain, manufacturing, NAICS 337214; Furniture parts, finished wood, manufacturing, NAICS 337215. SBA has determined that there are small business manufacturers of these classes of products.

DATES: This waiver is effective July 12, 2006.

FOR FURTHER INFORMATI0N CONTACT: Edith Butler, Program Analyst, by telephone at (202) 619-0422; by FAX at (202) 481-1788; or by e-mail at edith.butler@sba.gov.

SUPPLEMENTARY INFORMATION: Section 8(a)(17) of the Small Business Act (Act), 15 U.S.C. 637(a)(17), requires that recipients of Federal contracts set aside for small businesses, service-disabled veteran-owned small businesses, or SBA's 8(a) Business Development Program provide the product of a small business manufacturer or processor, if the recipient is other than the actual manufacturer or processor of the product. This requirement is commonly referred to as the Nonmanufacturer Rule. The SBA regulations imposing this requirement are found at 13 CFR 121.406(b). Section 8(a)(17)(b)(iv) of the Act authorizes SBA to waive the Nonmanufacturer Rule for any “class of products” for which there are no small business manufacturers or processors available to participate in the Federal market.

As implemented in SBA's regulations at 13 CFR 121.1202(c), in order to be considered available to participate in the Federal market for a class of products, a small business manufacturer must have submitted a proposal for a contract solicitation or received a contract from the Federal government within the last 24 months. The SBA defines “class of products” based on a six digit coding systems. The coding system is the Office of Management and Budget North American Industry Classification System (NAICS).

The SBA received a request on February 2, 2006 to waive the Nonmanufacturer Rule for Furniture. SBA has determined that there are no small business manufacturers for the following classes of products and is therefore granting the waiver of the Nonmanufacturer Rule for Furniture Frames and Parts, Metal, Manufacturing; NAICS 337215; Furniture Frames, Wood, Manufacturing; NAICS 337215; Furniture Parts, Finished Metal, Manufacturing; NAICS 337215; Furniture Parts, Finished Plastics, Manufacturing; NAICS 337215; Furniture, Factory-type (e.g., cabinets, stools, tool stands, work benches), Manufacturing; NAICS 337127; Furniture, Hospital (e.g., hospital beds, operating room furniture), Manufacturing; NAICS 339111 and Furniture, Laboratory-type (e.g., benches, cabinets, stools, tables), Manufacturing, NAICS 339111.

The SBA has determined that there are small business manufacturers of the following classes of products, and, is therefore denying the class waiver of the Nonmanufacturer Rule for Furniture (except wood), office-type, padded, upholstered, or plain, manufacturing, NAICS 337214; and Furniture parts, finished wood, manufacturing, NAICS 337215.

Karen C. Hontz,
Associate Administrator for Government Contracting.

[FR Doc. E6-10071 Filed 6-26-06; 8:45 am]

BILLING CODE 8025-01-P